ENVIRONMENTAL PROTECTION AGENCY

[OPPT-2002-0001; FRL-7744-3]

National Pollution Prevention and Toxics Advisory Committee (NPPTAC); Notice of Public Teleconference

AGENCY: Environmental Protection Agency (EPA).

ACTION: Notice.

SUMMARY: Under the Federal Advisory Committee Act (FACA), 5 U.S.C. App.2 (Public Law 92-463), EPA gives notice of a public teleconference of the National Pollution Prevention and Toxics Advisory Committee (NPPTAC). The purpose of the teleconference is to provide advice and recommendations to EPA regarding the overall policy and operations of the programs of the Office of Pollution Prevention and Toxics (OPPT). The meeting is open to the public. However, due to limited space, seating will be on a first come basis.

DATES: The National Pollution Prevention and Toxics Advisory Committee (NPPTAC) will meet on November 17, 2005, via teleconference from noon to 3 p.m. eastern time.

Requests to participate in the meeting must be received on or before November 10, 2005.

ADDRESSES: This teleconference meeting will be convened in Conference Room 4225, EPA East Building, 1201 Constitution Ave., NW., Washington, DC 20460. Note that lines may be limited. For further information concerning the meeting or how to obtain the telephone number, please contact either of the individuals listed under FOR FURTHER INFORMATION CONTACT.

Requests to participate in the meeting may be submitted to the technical person listed under FOR FURTHER INFORMATION CONTACT.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address:TSCA-Hotline@epa.gov.

For technical information contact: John Alter, Environmental Assistance Division (7408), Office of Pollution Prevention and Toxics, Environmental Protection Agency, 1200 Pennsylvania Ave., NW., Washington, DC 20460-0001; telephone number: (202) 564-9891; e-mail address:npptac.oppt@epa.gov.

SUPPLEMENTARY INFORMATION:

I. General Information

A. Does This Action Apply to Me?

This action is directed to the public in general, and may be of particular interest to those persons who have an interest in or may be required to manage pollution prevention and toxic chemical programs, individual groups concerned with environmental justice, children's health, or animal welfare, as they relate to OPPT's programs under the Toxic Substances Control Act (TSCA) and the Pollution Prevention Act (PPA). Since other entities may also be interested, the Agency has not attempted to describe all the specific entities that may be interested in the activities of the NPPTAC. If you have any questions regarding the applicability of this action to a particular entity, consult the technical person listed under FOR FURTHER INFORMATION CONTACT.

B. How Can I Get Copies of This Document and Other Related Information

1. Docket. EPA has established an official public docket for this action under docket ID number OPPT-2002-0001. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102 Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in the EPA Docket Center, is (202) 566-0280.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to submit or view public comments, to access the index listing of the contents of the official public docket, and to access those documents in the public docket that are available electronically.

Although not all docket materials may be available electronically, you may still access any of the publicly available docket materials through the docket facility identified in Unit I.B.1. Once in the system, select “search,” then key in the appropriate docket ID number.

C. How and to Whom Do I Submit Comments?

You may submit comments electronically, by mail, or through hand delivery/courier. To ensure proper receipt by EPA, identify the appropriate docket ID number OPPT-2002-0001, include NPPTAC November 2005 meeting in the subject line on the first page of your comment.

1. By mail: OPPT Document Control Office, Environmental Protection Agency, 7407M, 1200 Pennsylvania Ave., NW., Washington, DC 20460-0001.

2. Electronically: At http://www.epa.gov/edocket/, search for OPPT-2002-0001, and follow the directions to submit comments.

3. Hand delivery/courier: OPPT Document Control Office in EPA East Bldg., Rm. M6428, 1201 Constitution Ave., NW., Washington, DC.

II. Background

The proposed agenda for the NPPTAC teleconference meeting includes: The High Production (HPV) Volume Challenge Program; Pollution Prevention; Risk Assessment; Risk Management; Risk Communication; Nanoscale Materials; Coordination with Tribes and other Stakeholders.

The meeting is open to the public via phone. Note that lines may be limited. For further information concerning the meeting or how to obtain the telephone number, please contact the technical person listed under FOR FURTHER INFORMATION CONTACT.

III. How Can I Request to Participate in this Meeting?

You may submit a request to participate in this meeting by contacting the technical person listed under FOR FURTHER INFORMATION CONTACT. Do not submit any information in your request that is considered CBI. Requests to participate in the meeting, identified by docket ID number OPPT-2002-0001, must be received on or before November 10, 2005.

For information on access or services for individuals with disabilities, please contact John Alter at (202) 564-9891 ornpptac.oppt@epa.gov. To request accommodation of a disability, please contact John Alter, preferably at least 10 days prior to the meeting, to give EPA as much time as possible to process your request.

List of Subjects

Environmental protection, NPPTAC, Pollution prevention, Toxics, Toxic chemicals, Chemical health and safety, Nanoscale materials.

Dated: October 19, 2005.
Charles M. Auer,
Director, Office of Pollution Prevention and Toxics.

[FR Doc. 05-21271 Filed 10-24-05; 8:45 am]

BILLING CODE 6560-50-S